ENVIRONMENTAL PROTECTION AGENCY

[EPA-HQ-OW-2024-0454; FRL 12023-03-OW]

Draft National Recommended Ambient Water Quality Criteria for the Protection of Human Health for Perfluorooctanoic Acid, Perfluorooctane Sulfonic Acid, and Perfluorobutane Sulfonic Acid; Correction

AGENCY: Environmental Protection Agency (EPA).

ACTION: Notice of availability; correction.

SUMMARY: The Environmental Protection Agency (EPA) is making a correction to a notice that appeared in the Federal Register on December 26, 2024. The notice of availability contained an incorrect value in Table 1, which is corrected below.

DATES: Comments must be received on or before February 24, 2025.

FOR FURTHER INFORMATION CONTACT: Brandi Echols, Health and Ecological Criteria Division, Office of Water (4304T), Environmental Protection Agency, 1301 Constitution Ave. NW, Washington, DC 20460; telephone number: (202) 566-2717; email address: Echols.Brandi@epa.gov.

SUPPLEMENTARY INFORMATION: EPA published a notice of availability in the Federal Register at 89 FR 105041, December 26, 2024. This document corrects an error in Table 1, third column, second row, by correcting the PFOA Organism Only HHC value of 0.00036 ng/L to 0.0036 ng/L. This notice for correction corrects that error.

Correction

In the Federal Register of December 26, 2024, in FR Doc. 2024-30637, on page 105042, correct “Table 1” to read:

Table 1—Draft Human Health Criteria (HHC) for PFOA, PFOS, and PFBS
PFAS | Water + organism HHC (ng/L) | Organism only HHC (ng/L)
PFOA | 0.0009 | 0.0036
PFOS | 0.06 | 0.07
PFBS | 400 | 500

Tanya Hodge Mottley,
Acting Director, Office of Science and Technology, Office of Water.

[FR Doc. 2025-00710 Filed 1-14-25; 8:45 am]

BILLING CODE 6560-50-P